DEPARTMENT OF TRANSPORTATION

Federal Railroad Administration

[Docket Number FRA-2016-0002-N-18]

Proposed Agency Information Collection Activities; Comment Request

AGENCY: Federal Railroad Administration (FRA), U.S. Department of Transportation (DOT).

ACTION: Notice and request for comments.

SUMMARY: Under the Paperwork Reduction Act of 1995 (PRA), this notice announces that FRA is forwarding the renewal of the information collection requirements (ICRs) abstracted below to the Office of Management and Budget (OMB) for review and comment. The ICRs describe the nature of the information collections and expected burdens. The Federal Register notice with a 60-day comment period soliciting comments on the ICRs was published on May 3, 2016.

DATES: Comments must be submitted on or before September 16, 2016.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590, (202) 493-6292, or Ms. Kimberly Toone, Information Collection Clearance Officer, Office of Administration, Office of Information Technology, RAD-20, Federal Railroad Administration, 1200 New Jersey Avenue SE., Mail Stop 35, Washington, DC 20590, (202) 493-6132. These telephone numbers are not toll-free.

SUPPLEMENTARY INFORMATION: The PRA, 44 U.S.C. 3501-3520 (1995), and its implementing regulations, 5 CFR part 1320, require Federal agencies to issue two notices seeking public comment on information collection activities before OMB may approve paperwork packages. See 44 U.S.C. 3506, 3507; 5 CFR 1320.5, 1320.8(d)(1), and 1320.12. On May 3, 2016, FRA published a 60-day notice in the Federal Register soliciting comment on ICRs for which FRA is seeking OMB approval. See 81 FR 26619. FRA received no comments in response to that notice.

Before OMB decides whether to approve these proposed ICRs, it must provide 30 days for public comment. See 44 U.S.C. 3507(b), 5 CFR 1320.12(d). Federal law requires OMB to approve or disapprove paperwork packages between 30 and 60 days after the 30-day notice is published. See 44 U.S.C. 3507 (b)-(c); 5 CFR 1320.12(d); see also 60 FR 44978, 44983, Aug. 29, 1995. OMB believes the 30-day notice informs the regulated community to file relevant comments and affords the agency adequate time to digest public comments before it renders a decision. See 60 FR 44983, Aug. 29, 1995. Therefore, respondents should submit their respective comments to OMB within 30 days of publication to best ensure their full consideration. See 5 CFR 1320.12(c); see also 60 FR 44983, Aug. 29, 1995.

The summary below describes the nature of the ICRs and expected burdens. FRA is submitting the renewal request for OMB clearance the PRA requires.

Title: Filing of Dedicated Cars.

OMB Control Number: 2130-0502.

Abstract: Title 49 CFR part 215 contains standards for freight car safety and prescribes certain conditions railroads must follow to move freight cars in dedicated service. Dedicated service means the exclusive assignment of railroad cars to the transportation of freight between specified points under the conditions defined in § 215.5(d), including stenciling, or otherwise displaying, in clear legible letters on each side of the car body the words “Dedicated Service.” A railroad must identify those cars in a written report to FRA before the railroad assigns the cars to dedicated service. The railroad must file that report with FRA not less than 30 days before the cars operate in dedicated service. FRA uses the information collected under § 215.5(d) to determine the number of railroads affected, the number and type of cars involved, the commodities being carried, and the territorial and speed limits within which the cars will be operated. FRA reviews these reports to determine if the equipment is safe to operate and if the operation qualifies for dedicated service. The information collected indicates to FRA and State inspectors the particular or “dedicated” cars are in special service and that certain restrictions apply to their movement under part 215. FRA inspectors may cite cars not in compliance for violations. Railroads also use the information collected to provide identification and control so dedicated cars remain in the prescribed service.

Type of Request: Extension without change of a currently approved information collection.

Affected Public: Businesses (Railroads).

Form(s): N/A.

Total Annual Estimated Burden: 4 hours.

Total Annual Estimated Responses: 4.

Title: Special Notice for Repairs.

OMB Control Number: 2130-0504.

Abstract: Under 49 CFR part 216, FRA and State inspectors may issue a Special Notice for Repairs to notify railroads in writing of an unsafe condition involving a locomotive, car, or track. The railroad must notify FRA in writing when the equipment is returned to service or the track restored to a condition permitting operations at speeds authorized for a higher class, specifying the repairs completed. FRA and State inspectors use this information to remove from service freight cars, passenger cars, and locomotives until they can be restored to a serviceable condition. They also use this information to reduce the maximum authorized speed on a section of track until repairs can be made.

Type of Request: Extension without change of a currently approved information collection.

Affected Public: Businesses (Railroads).

Form(s): Form FRA F 6180.8; Form FRA F6180.8a.

Total Annual Estimated Burden: 20 hours.

Total Annual Estimated Responses: 72.

Title: Rear-End Marking Devices.

OMB Control Number: 2130-0523.

Abstract: FRA regulations in 49 CFR part 221 contain requirements for rear end marking devices and for railroads to give FRA a detailed description of the type of marking devices used for any locomotive operating singly or for cars or locomotives operating at the end of a train (trailing end) to ensure they meet minimum standards for visibility and display. Specifically, part 221 requires railroads to furnish a certification it has tested each device consistent with current “Guidelines for Testing of Rear End Marking Devices.” Additionally, part 221 requires railroads to furnish detailed test records, which include the testing organizations, description of tests, number of samples tested, and the test results, to demonstrate compliance with the performance standard.

Request: Extension without change of a currently approved information collection.

Affected Public: Businesses (Railroads).

Form(s): N/A.

Total Annual Estimated Burden: 39 hours.

Total Annual Estimated Responses: 4.

Title: Locomotive Certification (Noise Compliance Regulations).

OMB Control Number: 2130-0527.

Abstract: FRA's noise enforcement procedures in 49 CFR part 210, encompass rail yard noise source standards the Environmental Protection Agency (EPA) publishes. EPA has authority to set these standards under the Noise Control Act of 1972. Information FRA collects under part 210 is necessary to ensure compliance with EPA noise standards for new locomotives.

Request: Extension without change of a currently approved information collection.

Affected Public: Businesses (Railroads).

Form(s): Form FRA F 6180.49A.

Total Annual Estimated Burden: 2,767 hours.

Total Annual Estimated Responses: 1,582.

Title: Railroad Police Officers.

OMB Control Number: 2130-0537.

Abstract: FRA regulations in 49 CFR part 207 require railroads to notify states of all designated police officers who perform duties outside of their respective jurisdictions. This is necessary to verify proper police authority.

Request: Extension without change of a currently approved information collection.

Affected Public: Businesses (Railroads).

Form(s): N/A.

Total Annual Estimated Burden: 181 hours.

Total Annual Estimated Responses: 70.

Title: Foreign Railroads Foreign-Based (FRFB) Employees Who Perform Train or Dispatching Service in the United States.

OMB Control Number: 2130-0555.

Abstract: For foreign-based railroads with an FRA-approved foreign workplace alcohol and drug testing program equivalent to 49 CFR part 219, subparts B, E, F, and G, this FRA regulation requires removal from service of FRFB train and dispatching service employees who test positive for unauthorized use of alcohol and drugs. Part 219 testing enhances safety and serves as a deterrent to other FRFB train and dispatching service employees who might be tempted to use unauthorized drugs or alcohol. FRA uses this collection of information to determine the compliance of FRFB train and dispatching service employees and their employers with the prohibitions against the abuse of alcohol and controlled substances spelled out in part 219.

Request: Extension with change of a currently approved information collection.

Affected Public: Businesses (Railroads).

Form(s): N/A.

Total Annual Estimated Burden: 27 hours.

Total Annual Estimated Responses: 91.

Addresses: Send comments regarding these information collections to the Office of Information and Regulatory Affairs, Office of Management and Budget, 725 Seventeenth Street NW., Washington, DC 20503, Attention: FRA Desk Officer. Comments may also be sent via email to OMB at the following address: oira_submissions@omb.eop.gov.

Comments are invited on the following: Whether the proposed collections of information are necessary for the proper performance of the functions of the Department, including: (1) Whether the information will have practical utility; the accuracy of the Department's estimates of the burden of the proposed information collections; (2) ways to enhance the quality, utility, and clarity of the information to be collected; and (3) ways to minimize the burden of the collections of information on respondents, including the use of automated collection techniques or other forms of information technology.

A comment to OMB is best assured of having its full effect if OMB receives it within 30 days of publication of this notice in the Federal Register.

Authority: 44 U.S.C. 3501-3520.

Issued in Washington, DC, on August 12, 2016.
Sarah L. Inderbitzin,
Acting Chief Counsel.

[FR Doc. 2016-19626 Filed 8-16-16; 8:45 am]

BILLING CODE 4910-06-P